GENERAL SERVICES ADMINISTRATION

41 CFR Part 301-11

[FTR Amendment 2009-07; FTR Case 2009-308; Docket Number 2009-0015, Sequence 1]

RIN 3090-AI97

Federal Travel Regulation (FTR); Updated Meal Cost Table for Furnished Meal(s) Adjustments

AGENCY: Office of Governmentwide Policy, General Services Administration (GSA).

ACTION: Final rule.

SUMMARY: 5 U.S.C. 5702 authorizes the General Services Administration (GSA) to establish per diem allowances within the continental United States (CONUS) for the reimbursement for actual and necessary expenses of official travel. After a recent comprehensive meals and incidental expenses (M&IE) study, GSA is amending the Federal Travel Regulation in regards to the allocated meal costs. The new costs are broken out in the table § 301-11.18 by continental breakfast/breakfast, lunch, and dinner for the use of travelers who have had a meal(s) furnished by the Government or included in the registration fee, and who then must deduct the meal(s) before submitting the voucher for reimbursement. GSA is also updating the incidental expense rate.

DATES: Effective Date: October 26, 2009.

Applicability Date: This final rule is applicable for official travel performed on and after October 1, 2009.

FOR FURTHER INFORMATION CONTACT: The Regulatory Secretariat (MVR), Room 4041, GS Building, Washington, DC 20405, (202) 501-4755, for information pertaining to status or publication schedules. For clarification of content, contact Ms. Jill Denning, Office of Governmentwide Policy, at (202) 208-7642 or e-mail at jill.denning@gsa.gov. Please cite FTR Amendment 2009-07; FTR case 2009-308.

SUPPLEMENTARY INFORMATION:

A. Background

GSA periodically reviews the M&IE allowances throughout the continental United States (CONUS) to ensure the rates reflect the prices charged at local eating establishments. The GSA's Office of Governmentwide Policy (OGP) has recently completed a comprehensive M&IE study. This final rule amends the Federal Travel Regulation in regards to the allocated meal costs which must be adjusted when a meal(s) is furnished by the Government or is included in the registration fee, along with amending the incidental expense rate.

B. Executive Order 12866

This is not a significant regulatory action, and therefore, was not subject to review under Section 6(b) of Executive Order 12866, Regulatory Planning and Review, dated September 30, 1993. This final rule is not a major rule under 5 U.S.C. 804.

C. Regulatory Flexibility Act

This final rule is not required to be published in the Federal Register for notice and comment, therefore the Regulatory Flexibility Act, 5 U.S.C. 601, et seq., does not apply.

D. Paperwork Reduction Act

The Paperwork Reduction Act does not apply because the final changes to the FTR do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates to agency management and personnel.

List of Subjects in 41 CFR Part 301-11

Government employees, Travel and transportation expenses.

Dated: September 1, 2009.
Paul F. Prouty,
Acting Administrator of General Services.

For the reasons set forth in the preamble, pursuant to 5 U.S.C. 5707, GSA amends 41 CFR parts 301-11 as follows:

PART 301-11—PER DIEM EXPENSES

1. The authority citation for 41 CFR part 301-11 continues to read as follows:

Authority: 5 U.S.C. 5707.

2. Revise the table in § 301-11.18, paragraph (a), to read as follows:

§ 301-11.18 What M&IE rate will I receive if a meal(s) is furnished by the Government or is included in the registration fee?

(a) * * *

Total M&IE | $46 | $51 | $56 | $61 | $66 | $71
Continental Breakfast/Breakfast | 7 | 8 | 9 | 10 | 11 | 12
Lunch | 11 | 12 | 13 | 15 | 16 | 18
Dinner | 23 | 26 | 29 | 31 | 34 | 36
Incidentals | 5 | 5 | 5 | 5 | 5 | 5

* * * * *

[FR Doc. E9-25727 Filed 10-23-09; 8:45 am]

BILLING CODE 6820-14-P